DEPARTMENT OF ENERGY

Federal Energy Regulatory Commission

Combined Notice of Filings

Take notice that the Commission has received the following Natural Gas Pipeline Rate and Refund Report filings:

Filings Instituting Proceedings

Docket Numbers: RP20-78-000.

Applicants: Columbia Gas Transmission, LLC.

Description: Pre-Arranged/Pre-Agreed (Offer of Settlement and Petition for Approval) Filing of Columbia Gas Transmission, LLC under RP20-78.

Filed Date: 10/18/19.

Accession Number: 20191018-5233.

Comments Due: 5 p.m. ET 10/30/19.

Docket Numbers: RP19-1546-001.

Applicants: Gas Transmission Northwest LLC.

Description: Compliance filing Compliance to RP19-1546-000 (36-month ROFR) to be effective 10/6/2019.

Filed Date: 10/21/19.

Accession Number: 20191021-5099.

Comments Due: 5 p.m. ET 11/4/19.

Docket Numbers: RP20-79-000.

Applicants: Algonquin Gas Transmission, LLC.

Description: Compliance filing Algonquin Request for Waivers and Request for Shortened Comment Period.

Filed Date: 10/21/19.

Accession Number: 20191021-5220.

Comments Due: 5 p.m. ET 10/28/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2019.
Nathaniel J. Davis, Sr.,
Deputy Secretary.

[FR Doc. 2019-23519 Filed 10-25-19; 8:45 am]

BILLING CODE 6717-01-P